DEPARTMENT OF ENERGY

Federal Energy Regulatory Commission

[Docket No. CP03-342-004]

Discovery Gas Transmission LLC; Notice of Compliance Filing

December 27, 2005.

Take notice that on December 16, 2005, Discovery Gas Transmission LLC (Discovery) tenders for filing its actual costs incurred for final completion of Discovery's Market Expansion project pursuant to section 157.20(c)(3) of the Commission's regulations and order paragraph (B) of the order issued by the Commission in the above-captioned proceeding on May 6, 2004.

Discovery further states that copies of this filing are being served to its customers, state commissions and other interested parties.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 13, 2006.

Magalie R. Salas,
Secretary.

[FR Doc. E5-8173 Filed 12-30-05; 8:45 am]

BILLING CODE 6717-01-P